FEDERAL COMMUNICATIONS COMMISSION

47 CFR Part 73

[DA 05-2210; MB Docket No. 05-137, RM-11161]

Radio Broadcasting Service; Big Spring, TX

AGENCY: Federal Communications Commission.

ACTION: Final rule.

SUMMARY: The Audio Division, at the request of Charles Crawford allots Channel 265C3 at Big Spring, Texas, as the community's third local commercial FM service. See 70 FR 19397, published April 13, 2005. Channel 265C3 can be allotted to Big Spring in compliance with the Commission's minimum distance separation requirements at the center of the community. The reference coordinates for Channel 265C3 at Big Spring are 32-12-00 North Latitude and 101-18-00 West Longitude with a site restriction of 17.7 kilometers (11 miles) east of Big Spring. Mexican concurrence has been requested. A filing window for Channel 265C3 at Big Spring, Texas will not be opened at this time. Instead, the issue of opening a filing window for this channel will be addressed by the Commission in a subsequent order.

DATES: Effective September 12, 2005.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 05-137, adopted July 27, 2005, and released July 29, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 265C3 at Big Spring.

Federal Communications Commission.
John A. Karousos,
Assistant Chief, Audio Division, Media Bureau.

[FR Doc. 05-16073 Filed 8-16-05; 8:45 am]

BILLING CODE 6712-01-P